DEPARTMENT OF LABOR

Employment and Training Administration

[TA-W-82,095]

Verizon Services Corporation, Customer Services Clerk, General Clerk, Clarksburg, WV; Notice of Affirmative Determination Regarding Application for Reconsideration

By application dated December 27, 2012 and received by the Department of Labor (Department) on January 4, 2013, workers of Verizon Services Corporation, Customer Services Clerk, General Clerk, Clarksburg, West Virginia (subject firm) requested administrative reconsideration of the negative determination regarding workers' eligibility to apply for Trade Adjustment Assistance (TAA) applicable to workers and former workers of the subject firm. The Department's determination was issued on December 19, 2012. The Department's Notice of determination was published in the Federal Register on January 10, 2013 (78 FR 2290).

The initial investigation resulted in a negative determination based on the findings that the subject firm did not shift to a foreign country the supply of services like or directly competitive with those supplied by the workers and did not import services like or directly competitive with those supplied by the workers.

The request for reconsideration supplied new information regarding a shift to the Philippines and India, as well as reiterated the earlier allegation of a shift to Mexico.

The Department has carefully reviewed the request for reconsideration and the existing record, and has determined that the Department will conduct further investigation to determine if the petition worker group meets the eligibility requirements of the Trade Act of 1974, as amended.

Conclusion

After careful review of the application, I conclude that the claim is of sufficient weight to justify reconsideration of the U.S. Department of Labor's prior decision. The application is, therefore, granted.

Signed at Washington, DC, this 15th day of January 2013.
Del Min Amy Chen,
Certifying Officer, Office of Trade Adjustment Assistance.

[FR Doc. 2013-02541 Filed 2-5-13; 8:45 am]

BILLING CODE 4510-FN-P